FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants:

Anand J. Narain, 10122 Towhee Avenue, Adelphi, MD 20783, Sole Proprietor.

A.M.X. Logistics, Inc., 145-32 157th Street, Jamaica, NY 11434. Officer: Saleem Akhtar, President, (Qualifying Individual).

Bral Marine Service Inc., 7766 NW. 46 Street, Miami, FL 33166. Officers: Amalia Soraya Freire, General Manager, (Qualifying Individual), Alvaro Cruz, President.

Cargo Express Del Caribe, Inc., 1133 Morris Avenue, Bronx, NY 10456. Officer: Fernando Oviedo, President, (Qualifying Individual).

EZ Logistics, Inc., 2416 S. Sandpiper Pl., Ontario, CA 91761. Officers: Kitty X. Lantz, Secretary, (Qualifying Individual), Zhaogang Zhong, CFO.

Global Cargo Connection, 1815 W. 205th Street, #302, Torrance, CA 90501. Officer: Steve Lee, President, (Qualifying Individual).

Reyes Envios, 1170 SW. 6 Street, Miami, FL 33130, Sole Proprietor.

Transport Logistic International Corp., 7345 NW. 79 Terrace, Medley, FL 33166. Officers: Juan Carlos Avendano, President, (Qualifying Individual), Jennifer Granada, Director.

Worldwide Sea & Air Shipping Co. LLC, 815 South Country Glen Way, Anaheim, CA 92808. Officers: Mahbooba Sarah Omar, President, (Qualifying Individual), Haroon Surkhabi, Treasurer.

Non-Vessel—Operating Common Carrier and Ocean Freight Forwarder Transportation Intermediary Applicants:

Intersea Transport, Inc., 331 Winding Canyon Way, Algonquin, IL 60102. Officers: Byung H. Yoo, Director, (Qualifying Individual), Margarita Chung, President.

World International Cargo Transfer USA, Inc., 15832 S. Broadway Avenue, Ste. D, Gardena, CA 90248. Officer: Augusto G. Santos, President, (Qualifying Individual).

A&A Contract Customs Brokers USA, Inc., dba A&A International Freight Forwarding, #2—12th Street, Blaine, WA 98230. Officers: Edward M. Jones, Vice President, (Qualifying Individual), Graham S. Robins, President.

A.M.C. Shipping, 79 Edna Avenue, Bridgeport, CT 06610, Winston Dawson, Sole Proprietor.

NVO Container Line Inc., dba Global Logistics USA, 2350 Hylan Blvd., Staten Island, NY 10367. Officer: Kenney W. Whitman, President, (Qualifying Individual).

Unique Logistics International Inc., 801 Hanover Street, Suite 500, Grapevine, TX 76051. Officer: James Chou, President, (Qualifying Individual).

Hemisphere Cargo Corp. dba H. Cargo Lines, dba H. Cargo Logistics, 10850 NW. 21 Street, Suite 100, Miami, FL 33172. Officer: Carlos Felipe Proano, President, (Qualifying Individual).

A.P.R. Inc. dba Expresito Carga, 102-49 Corona Avenue, Corona, NY 11368. Officers: Alfredo Padilla, President, (Qualifying Individual), Marcela Cadena, Secretary.

Ocean Freight Forwarder—Ocean Transportation Intermediary Applicants:

Incline International Relocation, Inc., 8700 Barrister Way, Charlotte, NC 28216. Officers: Jennifer L. Hindmarch, President, (Qualifying Individual), Brian E. Hindmarch, Vice President.

Jamaica Shipping Co., 33 Edgemere Road, Livingston, NJ 07039, Donald Chin, Sole Proprietor.

Overseas Shipping, Inc., 7021 Grand National Drive, Suite 110, Orlando, FL 32819. Officers: Saleh M. Aboul, President, (Qualifying Individual), Firas Abdul, Secretary.

Dated: June 30, 2005.
Bryant L. VanBrakle,
Secretary.

[FR Doc. 05-13257 Filed 7-5-05; 8:45 am]

BILLING CODE 6730-01-P